DEPARTMENT OF ENERGY

Federal Energy Regulatory Commission

Notice of Application for Surrender of License and Solicitation of Comments, Motions To Intervene, and Protests

May 10, 2002.

Take notice that the following hydroelectric application has been filed with the Commission and is available for public inspection:

a. Application Type: Surrender of License.

b. Project No.: 2069-007.

c. Date Filed: April 30, 2002.

d. Applicant: Arizona Public Service Company.

e. Name of Project: Childs-Irving Hydroelectric Project.

f. Location: On Fossil Creek, a tributary of the Verde River, in Yavapai and Gila Counties, Arizona. The project is located on 326.8 acres of the Coconino National Forest and 17.2 acres of the Tonto National Forest.

g. Filed Pursuant to: Federal Power Act, 16 U.S.C. 791(a)-825(r).

h. Applicant Contact: Nick Svor, Arizona Public Service Company, P.O. Box 53933, Mail Station 3190, Phoenix, AZ 85072, (602)250-1253.

i. FERC Contact: Dianne Rodman, (202)219-2830, e-mail at dianne.rodman@ferc.gov.

j. Cooperating agencies: We are asking federal, state, local, and tribal agencies with jurisdiction and/or special expertise with respect to environmental issues to cooperate with us in the preparation of the environmental document. Agencies who would like to request cooperating status should follow the instructions for filing documents described in item k below.

k. Deadline for filing comments, motions to intervene, protests, and requests for cooperating agency status: 30 days from the issuance date of this notice.

All documents (original and eight copies) should be filed with: Magalie R. Salas, Secretary, Federal Energy Regulatory Commission, 888 First Street, NE., Washington, DC 20426.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

Comments, motions to intervene, protests, and requests for cooperating agency status may be filed electronically via the Internet in lieu of paper. See 18 CFR 385.2001(a)(1)(iii) and the instructions on the Commission's Web site (http://www.ferc.gov) under the “e-Filing” link.

l. Arizona Public Service Company (APS) filed an application to surrender its major license for the Childs-Irving Project. APS requests that the Commission approve the following: (1) The surrender of the project license effective as of the date APS completes decommissioning activities; (2) the continuance of power generation at the project until December 31, 2004; and (3) the decommissioning proposal established in the September 15, 2000, Settlement Agreement. APS also requests incorporation into the record for the subject surrender proceeding 13 documents filed with the Commission as part of the earlier relicensing proceeding. The application includes a schedule for filing additional information with the Commission to support the surrender application.

m. A copy of the application is on file with the Commission and is available for public inspection. This filing may also be viewed on the Web at http://www.ferc.gov using the “RIMS” link—select “Docket #” and follow the instructions (call 202-208-2222 for assistance). A copy is also available for inspection and reproduction at the address in item h above.

n. With this notice, we are initiating consultation with the State Historic Preservation Officer as required by § 106, National Historic Preservation Act, and the regulations of the Advisory Council on Historic Preservation, 36 CFR 800.4.

o. Individuals desiring to be included on the Commission's mailing list should so indicate by writing to the Secretary of the Commission.

Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Any filings must bear in all capital letters the title “COMMENTS,” “PROTEST,” or “MOTION TO INTERVENE,” as applicable, and the Project Number of the particular application to which the filing refers. A copy of any motion to intervene must also be served upon each representative of the Applicant specified in the particular application.

Federal, state, and local agencies are invited to file comments on the described application. A copy of the application may be obtained by agencies directly from the applicant. If an agency does not file comments within the time specified for filing comments, it will be presumed to have no comments. One copy of an agency's comments must also be sent to the Applicant's representatives.

Magalie R. Salas,
Secretary.

[FR Doc. 02-12192 Filed 5-15-02; 8:45 am]

BILLING CODE 6717-01-P